DEPARTMENT OF ENERGY

Office of Energy Efficiency and Renewable Energy

Request for Information—Challenges and Opportunities for Sustainable Development of Hydropower in Undeveloped Stream Reaches of the United States; Notice of Reopening of Comment Period

AGENCY: Water Power Technologies Office, Office of Energy Efficiency and Renewable Energy, Department of Energy (DOE).

ACTION: Notice of reopening of comment period.

SUMMARY: On November 9, 2016, the Water Power Technologies Office (WPTO) within the Department of Energy (DOE) issued a request for information (RFI) in the Federal Register to invite input from the public regarding challenges and opportunities associated with hydropower development in undeveloped stream-reaches. The WPTO is reopening the comment period until February 10, 2017, to provide interested parties with additional time to submit comments.

DATES: Responses must be received no later than 5:00 p.m. (ET) on Friday, February 10, 2017.

ADDRESSES: Responses to this RFI must be submitted electronically to HydroNextFOA@ee.doe.gov as Microsoft Word (.docx) attachments to an email, and be no more than 6 pages in length, 12 point font, 1 inch margins. It is recommended that attachments with file sizes exceeding 25 MB be compressed (i.e., zipped) to ensure message delivery. Please include in the subject line “Comments for RFI”. Only electronic responses will be accepted.

FOR FURTHER INFORMATION CONTACT: Questions may be directed to: Rajesh Dham, Water Power Technologies Office, U.S. Department of Energy, 1000 Independence Avenue SW., Washington, DC 20585, Phone: (202) 287-6675, Email: Rajesh.Dham@ee.doe.gov.

SUPPLEMENTARY INFORMATION: On November 9, 2016, the Water Power Technologies Office (WPTO) within the Department of Energy (DOE) issued a request for information (RFI) in the Federal Register (81 FR 78795) inviting input from the public regarding challenges and opportunities associated with hydropower development in undeveloped stream-reaches. Through the RFI, the WPTO also sought input on the focus and structure of a potential funding opportunity to support research and development of advanced and/or non-traditional transformative hydropower technologies and project designs capable of avoiding or minimizing environmental and social effects of new cost-competitive hydropower development in undeveloped stream-reaches of the United States. The comment period ended December 16, 2016. After receiving several requests for additional time to prepare and submit comments, the WPTO has decided to reopen the period for submitting comments.

The WPTO will accept responses to the RFI received no later than February 10, 2017, and deems any comments received by that time to be timely submitted.

Guidance for Submitting Documents: DOE invites all interested parties to submit responses by no later than 5:00 p.m. (ET) on February 10, 2017. Responses to this RFI must be submitted electronically to HydroNextFOA@ee.doe.gov as Microsoft Word (.docx) attachments to an email, and be no more than 6 pages in length, 12 point font, 1 inch margins. Only electronic responses will be accepted.

Respondents are requested to provide the following information at the start of their response to this RFI:

• Company/institution name;

• Company/institution contact;

• Contact's address, phone number, and email address.

Pursuant to 10 CFR 1004.11, any person submitting information that he or she believes to be confidential and exempt by law from public disclosure should submit via email, postal mail, or hand delivery/courier two well marked copies: One copy of the document marked “confidential” including all the information believed to be confidential, and one copy of the document marked “non confidential” with the information believed to be confidential deleted. Submit these documents via email or on a CD, if feasible. DOE will make its own determination about the confidential status of the information and treat it according to its determination.

Factors of interest to DOE when evaluating requests to treat submitted information as confidential include: (1) A description of the items; (2) whether and why such items are customarily treated as confidential within the industry; (3) whether the information is generally known by or available from other sources; (4) whether the information has previously been made available to others without obligation concerning its confidentiality; (5) an explanation of the competitive injury to the submitting person that would result from public disclosure; (6) when such information might lose its confidential character due to the passage of time; and (7) why disclosure of the information would be contrary to the public interest.

It is DOE's policy that all comments may be included in the public docket, without change and as received, including any personal information provided in the comments (except information deemed to be exempt from public disclosure).

Issued in Washington, DC on January 11, 2017.
Jim Ahlgrimm,
Acting Director, Water Power Technologies Office.

[FR Doc. 2017-01037 Filed 1-17-17; 8:45 am]

BILLING CODE 6450-01-P